DEPARTMENT OF JUSTICE

Office of Justice Programs

[OJP (OJP) Docket No. 1485]

Hearing of the Review Panel on Prison Rape

AGENCY: Office of Justice Programs, Justice.

ACTION: Notice of Hearing.

SUMMARY: The Office of Justice Programs (OJP) announces that the Review Panel on Prison Rape (Panel), will hold hearings in Orlando, Florida on August 27, 2008, Washington, DC, on September 10-11, 2008, Springfield, Massachusetts on September 24-25, 2008 and again in Washington, DC, on September 30 and October 1, 2008. The hearing times and location are noted below. The purpose of the hearings is to assist the Bureau of Justice Statistics (BJS) in identifying common characteristics of victims and perpetrators of prison rape, and prison and prison systems with the highest and lowest incidence of prison rape. On June 25, 2008, BJS issued the report Sexual Victimization in Local Jails Reported by Inmates, 2007. The report provides a listing of local jails ranked according to the prevalence of sexual victimization, and formed the basis of the Panel's decision about which facilities would be the subject of testimony.

DATES: The hearing schedule is as follows:

1. Wednesday, August 27, 2008, 9 a.m. to 5 p.m. (Brevard County, Florida Jail—facility with a high prevalence of sexual victimization).

2. Wednesday, September 10, 2008, 9 a.m. to 5 p.m. (Northwest Ohio Regional Correctional Center—facility with a low prevalence of sexual victimization).

3. Thursday, September 11, 2008, 9 a.m. to 5 p.m. (Southeastern Ohio Regional Jail—facility with a high prevalence of sexual victimization)

4. Wednesday, September 24, 2008, 8:30 a.m. to 4:30 p.m. (Hampden County, Massachusetts Correctional Alcohol Center—facility with a low prevalence of sexual victimization).

5. Thursday, September 25, 2008, 8:30 a.m. to 4:30 p.m. (New York City Rose M. Singer Center, New York—facility with a high prevalence of sexual victimization).

6. Wednesday, September 30, 2008, 9 a.m. to 5 p.m. (Torrance County, New Mexico Jail—facility with a high prevalence of sexual victimization)

7. Thursday, October 1, 2008, 9 a.m. to 5 p.m. (Bernalillo County, New Mexico Jail—facility with a high prevalence of sexual victimization)

ADDRESSES: The hearing on August 27, 2008 will take place at the Florida A&M University, College of Law, 201 Beggs Avenue, Orlando, Florida 32801. The hearings on September 10-11, 2008 and those on September 30-October 1, 2008, will take place at the Office of Justice Programs Building, Main Conference Room, Third Floor, U.S. Department of Justice, 810 7th Street, NW., Washington, DC 20531. The hearing on September 24-25, 2008 will take place at the Western New England College, School of Law, 1215 Wilbraham Road, Springfield, Massachusetts 01119-2684.

FOR FURTHER INFORMATION CONTACT: Christopher Zubowicz Designated Federal Official, OJP, christopher.zubowicz@usdoj.gov, (202) 307-0690 [Note: This is not a toll free number.]

SUPPLEMENTARY INFORMATION: The Panel, which was established pursuant to the Prison Rape Elimination Act of 2003, Public Law 108-79, 117 Stat. 972 (codified as amended at 42 U.S.C. 15601-15609 (2006)), will hold its next hearings to carry out the review functions specified at 42 U.S.C. 15603(b)(3)(A). Testimony from the hearing will assist the Panel in formulating best practices for deterring prison rape. Space is limited at all hearing locations. Members of the public who wish to attend the hearing in Washington, DC, must present photo identification upon entrance to the Office of Justice Programs. Special needs requests should be made to Christopher Zubowicz, Designated Federal Official, OJP, christopher.zubowicz@usdoj.gov or 202-307-0690, at least one week prior to the hearing.

Dated: August 13, 2008.
Michael Alston,
Office of Justice Programs.

[FR Doc. E8-19125 Filed 8-18-08; 8:45 am]

BILLING CODE 4410-18-P